DEPARTMENT OF COMMERCE

National Oceanic and Atmospheric Administration

50 CFR Part 648

[Docket No. 000426114-0114-01; I.D. 101700E]

RIN 0648-AN53

Fisheries of the Northeastern United States; Spiny Dogfish Fishery; 2000 Specifications; Extension of an Interim Rule

AGENCY: National Marine Fisheries Service (NMFS), National Oceanic and Atmospheric Administration (NOAA), Commerce.

ACTION: Extension of the effective date of an interim rule.

SUMMARY: NMFS informs the public that the interim rule published on May 4, 2000, to implement specifications and seasonal trip limits for fishing year 2000 (May 1, 2000, through April 30, 2001) for the spiny dogfish (Squalus acanthias) fishery, is extended through April 24, 2001. The extension maintains the total quota for the 2000 fishing year and sets aside a portion of the total quota for vessels participating in spiny dogfish exempted fishing projects. The interim final rule is necessary to prevent overfishing of spiny dogfish and extend the effective period of the quota.

DATES: Effective October 29, 2000, through April 24, 2001.

ADDRESSES: Copies of documents supporting this action are available from the Northeast Regional Office, NMFS, Office of Sustainable Fisheries, 1 Blackburn Drive, Gloucester, MA 01930.

FOR FURTHER INFORMATION CONTACT: Peter W. Christopher, Fishery Policy Analyst, 978-281-9288, fax 978-281-9135, e-mail peter.christopher@noaa.gov.

SUPPLEMENTARY INFORMATION: The Spiny Dogfish Fishery Management Plan (FMP) prepared by the Mid-Atlantic and New England Fishery Management Councils (Councils) was partially approved by NMFS on behalf of the Secretary of Commerce (Secretary) on September 29, 1999. The final rule implementing the FMP was published on January 11, 2000 (65 FR 1557), and was initially scheduled to be effective on February 10, 2000. However, the Councils were unable to reach agreement on a preferred commercial quota and trip limit measure for this action. After delays in implementing the FMP from February to April, 2000, in order to provide the Councils additional opportunities to reach agreement, NMFS, on behalf of the Secretary, published an interim rule on May 4, 2000 (65 FR 25887), which established a quota and trip limits for fishing year 2000.

The interim rule allocated quota into two periods (May 1 through October 31, and November 1 through April 30), with trip limits intended to preclude directed fishing. As of September 23, 2000, reported landings have exceeded the annual quota of 4 million lb (1,814 mt), with approximately 4.7 million lb (2,131 mt) reported. In addition, the Commonwealth of Massachusetts closed its waters to spiny dogfish fishing on August 26, 2000, based on its determination that landings in that state reached the 7 million lb (3,175 mt) of spiny dogfish that the Commonwealth believed appropriate. Therefore, the landings of 4.6 million lb (2,086 mt) currently included in Federal landings records is incomplete. Due to the excessive landings in quota period 1, which have exceeded the annual quota, the fishery will not be reopened for quota period 2.

The research quota set--aside of 500,000 lb (226.7 mt) was established for vessels participating in research projects designed to improve selectivity of spiny dogfish fishing gear and methods. The primary goal in providing this incentive for research is to investigate ways to shift fishing effort away from female spiny dogfish, which in turn would help to rebuild the female portion of the stock and to provide greater rebuilding capacity to the stock as a whole. In addition, spiny dogfish gear selectivity research would contribute to improving current information on the species, including bycatch and discard mortality. This measure will remain in place for quota period 2 to allow for this research.

Comments and Responses

Comment 1: Two commenters felt that measures other than those in the interim rule would be more fair. One stated that the interim final rule measures are unfair to gillnet vessels and that management measures such as weekly trip limits, individual quotas based on vessel history, and a minimum mesh size of 7 inches (17.8 cm) would reduce discarding. Another commentor stated that the shutdown of the directed spiny dogfish fishery would eliminate a portion of his vessel’s income for a part of the year.

Response: Management alternatives were considered during the development of the annual specifications for the spiny dogfish fishery and in the interim final rule. Individual quotas were not considered by the Councils when the Spiny Dogfish FMP was under development because of a moratorium enacted by Congress in section 303(d) of the Magnuson-Stevens Fishery Conservation and Management Act that prohibited the development of management options involving individual quotas through October 1, 2000, pending a study of individual transferable quotas by the National Research Council. Other management alternatives were determined to be either unlikely to achieve the necessary conservation targets or infeasible. For example, mesh-size restrictions may not provide the necessary conservation benefits because, while the larger mesh size may exclude juvenile spiny dogfish, it would still capture the larger female spiny dogfish, which are of special concern to the reproductive capacity of the stock. The interim final rule implemented measures to end overfishing while providing the greatest future benefits to the fishing communities, based on the available information. In the future, the Councils are expected to consider additional alternatives designed to reduce bycatch of spiny dogfish in other fisheries and to mitigate short--erm economic hardships, as requested by the Secretary.

Comment 2: One commentor reiterated its concerns expressed during the comment period of the proposed rule for the FMP. The commentor believes that a lack of information on the fishery and the stock status continues to be a problem with the interim final rule. The commentor believes that some NMFS analyses indicate that the level of discards of spiny dogfish in non-directed fisheries would be so great that it would cause the FMP measures to fail. The commentor stated that the experimental fishery quota set-aside was an attempt to shield the lack of substantive information that is usually required to establish an FMP and an attempt to indicate to the industry that serious work will be done to support changes in the plan that would forestall the closure of directed harvesting and the consequent loss of markets.

Response: The need for restrictive management measures for spiny dogfish was established in the FMP. The Secretary delayed implementation of the FMP in order for the Councils to consider additional information and to reach an agreement on management measures for the 2000 fishing year. When the Councils failed to come to an agreement, the Secretary implemented the interim final rule to be consistent with the FMP and to end overfishing. As required by the Magnuson-Stevens Act, the FMP and the interim final rule are based on the best available scientific information and on established measures to end overfishing on spiny dogfish. While an analysis prepared by NMFS does indicate that a high amount of spiny dogfish discards is possible with low trip limits, it does not indicate that such discards compromise the rebuilding plan established in the FMP. The trip limit analysis was unable to quantify the expected changes in fishing practices by fishermen to avoid spiny dogfish due to low trip limits. Also, low trip limits essentially eliminate the directed spiny dogfish fishery, thereby preventing the high amount of discards of small spiny dogfish known to be associated with the directed spiny dogfish fishery. The research set-aside encourages industry and researchers to improve selectivity of spiny dogfish gear and methods.

Comment 3: The Massachusetts Division of Marine Fisheries (MADMF) commented on the rationale behind the management measures implemented in Massachusetts shortly before the interim final rule was implemented. In late April, the MADMF implemented a 7- million lb (3,175-mt) quota, a 7,000-lb (3,175-kg) trip limit, a 31-inch (78.7-cm) minimum fish size, and gillnet restrictions. The MADMF believes that these measures allow a small-scale directed fishery while remaining consistent with the FMP and the Magnuson-Stevens Act. Further, the MADMF believes that the small-scale directed fishery would reduce discards while allowing the processing sector to maintain its infrastructure.

Response: The MADMF management strategy does not eliminate overfishing as required by the FMP because it does not result in a fishing mortality rate of F = 0.03 or less. The Spiny Dogfish Technical Committee is continuing to evaluate alternative management approaches and will consider updated stock status information. The Spiny Dogfish Joint Committee and the Councils may consider the new information and new alternatives in 2001 in an amendment to the FMP. An FMP amendment would be necessary to modify the rebuilding program in the FMP.

Authority: 16 U.S.C. 1801 et seq.

Dated: October 25, 2000.
William T. Hogarth,
Deputy Assistant Administrator for Fisheries, National Marine Fisheries Service.

[FR Doc. 00-27867 Filed 10-26-00; 1:08 pm]

BILLING CODE 3510-22-S